DEPARTMENT OF TRANSPORTATION

Federal Aviation Administration

14 CFR Part 39

[Docket No. 2000-NM-392-AD]

RIN 2120-AA64

Airworthiness Directives; Boeing Model 757-200, -200CB, and -300 Series Airplanes

AGENCY: Federal Aviation Administration, DOT.

ACTION: Notice of proposed rulemaking (NPRM).

SUMMARY: This document proposes the adoption of a new airworthiness directive (AD) that is applicable to certain Boeing Model 757-200, -200CB, and -300 series airplanes. This proposal would require determining the part numbers of the master control valve on the pressure bottles that activate the off-wing escape slides, and corrective action, if necessary. This action is necessary to prevent failure of an escape slide to deploy or inflate correctly, which could cause the slide to be unusable during an emergency evacuation and result in consequent injury to passengers or crewmembers. This action is intended to address the identified unsafe condition.

DATES: Comments must be received by April 12, 2002.

ADDRESSES: Submit comments in triplicate to the Federal Aviation Administration (FAA), Transport Airplane Directorate, ANM-114, Attention: Rules Docket No. 2000-NM-392-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-392-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Victor Wicklund, Aerospace Engineer, Airframe Branch, ANM-120S, FAA, Seattle Aircraft Certification Office, 1601 Lind Avenue, SW., Renton, Washington 98055-4056; telephone (425) 227-1426; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-392-AD.” The postcard will be date stamped and returned to the commenter.

Availability of NPRMs

Any person may obtain a copy of this NPRM by submitting a request to the FAA, Transport Airplane Directorate, ANM-114, Attention: Rules Docket No. 2000-NM-392-AD, 1601 Lind Avenue, SW., Renton, Washington 98055-4056.

Discussion

The FAA has received a report indicating that during certification testing of an off-wing emergency escape slide on a Boeing Model 757 series airplane, the escape slide failed to automatically deploy. The failure occurred because the master control valve installed on a pressure bottle that activates the off-wing escape slide did not actuate when the over-wing exit was opened. When the valve is not triggered by the electronically fired squib (pyrotechnic cartridge), the escape slide will not deploy until the system is manually activated. Subsequent functional tests of other off-wing escape slides revealed the same malfunction in the master control valve, which prevented slide deployment. Failure of an escape slide to deploy or inflate correctly could cause the slide to be unusable during an emergency evacuation and result in consequent injury to passengers or crewmembers.

Explanation of Relevant Service Information

The FAA has reviewed and approved Boeing Special Attention Service Bulletins 757-25-0214 and 757-25-0216, both dated April 6, 2000. The service bulletins describe procedures for determining the part numbers of the master control valve installed on each of the two pressure bottles that activate the off-wing escape slides, and corrective action, if necessary. The corrective action includes replacement of the master control valve with a new valve, or rework of any valve with part number (P/N) S416N207-6 (supplier P/N 42000802-1), and replacement of the placard on that pressure bottle assembly with a new placard. Accomplishment of the actions specified in the applicable service bulletin is intended to adequately address the identified unsafe condition.

Explanation of Requirements of Proposed Rule

Since an unsafe condition has been identified that is likely to exist or develop on other products of this same type design, the proposed AD would require accomplishment of the actions specified in the applicable service bulletin described previously, except as discussed below.

Difference Between This Proposed AD and the Service Bulletins

Although the service bulletins recommend determining the P/Ns of the master control valves at the earliest maintenance period when manpower and parts are available, the FAA has determined that this compliance time may not ensure that the identified unsafe condition is addressed in a timely manner. In developing an appropriate compliance time for this proposed AD, the FAA considered not only the manufacturer's recommendation, but the degree of urgency associated with addressing the subject unsafe condition, the average utilization of the affected fleet, and the time necessary to perform the proposed AD. In light of all of these factors, the FAA finds a compliance time of 18 months after the effective date of this AD to be warranted, in that it represents an appropriate interval of time allowable for affected airplanes to continue to operate without compromising safety.

Cost Impact

There are approximately 435 airplanes of the affected design in the worldwide fleet. The FAA estimates that 360 airplanes of U.S. registry would be affected by this proposed AD, that it would take approximately 1 work hour per airplane to accomplish the proposed inspection, and that the average labor rate is $60 per work hour. Based on these figures, the cost impact of the proposed AD on U.S. operators is estimated to be $21,600, or $60 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Should an operator be required to accomplish the replacement of the valve and placard, it would take approximately 2 work hours per airplane to accomplish the replacement, at an average labor rate of $60 per work hour. Currently, the required parts would be provided at no cost to the operator. Based on these figures, the cost impact of the replacement is estimated to be $120 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2000-NM-392-AD.

Applicability: Model 757-200, -200CB, and -300 series airplanes, as listed in Boeing Special Attention Service Bulletin 757-25-0214 or 757-25-0216, both dated April 6, 2000, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of an escape slide to deploy or inflate correctly, which could cause the slide to be unusable during an emergency evacuation and result in consequent injury to passengers or crewmembers, accomplish the following:

Inspection/Corrective Action

(a) Within 18 months after the effective date of this AD: Determine the part numbers (P/N) of the master control valve installed on each of the two pressure bottles located in the forward end of the aft cargo compartment that activate the off-wing escape slides, per Boeing Special Attention Service Bulletin 757-25-0214 (for Model 757-200 and 200CB series airplanes), or 757-25-0216 (for Model 757-300 series airplanes), both dated April 6, 2000, as applicable.

(1) If any P/N found on any valve is P/N S416N207-6, (supplier P/N 42000802-1), before further flight, replace the affected valve with a new valve or rework the valve, as applicable; and replace the placard on the corresponding pressure bottle assembly with a new placard, per the applicable service bulletin.

(2) If the P/N shown on both valves is not P/N S416N207-6, (supplier P/N 42000802-1), no further action is required by this AD.

Spares

(b) As of the effective date of this AD, no person shall install a master control valve, P/N S416N207-6 (supplier P/N 42000802-1), on any airplane.

Alternative Methods of Compliance

(c) An alternative method of compliance or adjustment of the compliance time that provides an acceptable level of safety may be used if approved by the Manager, Seattle Aircraft Certification Office (ACO). Operators shall submit their requests through an appropriate FAA Principal Maintenance Inspector, who may add comments and then send it to the Manager, Seattle ACO.

Note 2: Information concerning the existence of approved alternative methods of compliance with this AD, if any, may be obtained from the Seattle ACO.

Special Flight Permit

(d) Special flight permits may be issued in accordance with §§ 21.197 and 21.199 of the Federal Aviation Regulations (14 CFR 21.197 and 21.199) to operate the airplane to a location where the requirements of this AD can be accomplished.

Issued in Renton, Washington, on February 20, 2002.
Vi L. Lipski,
Manager, Transport Airplane Directorate, Aircraft Certification Service.

[FR Doc. 02-4506 Filed 2-25-02; 8:45 am]

BILLING CODE 4910-13-U